DEPARTMENT OF AGRICULTURE

Animal and Plant Health Inspection Service

7 CFR Parts 305 and 319

[Docket No. APHIS-2024-0034]

Web Links for Plant Commodity Import Requirements

AGENCY: Animal and Plant Health Inspection Service, USDA.

ACTION: Final rule.

SUMMARY: We are revising the phytosanitary treatment and quarantine import regulations to reflect our relocation of import and treatment requirements for agricultural commodities to the Agricultural Commodity Import Requirements online database. This change will ensure that the regulations provide the latest web links for accessing current import and treatment requirements for all agricultural commodities.

DATES: Effective October 1, 2024.

FOR FURTHER INFORMATION CONTACT: Ms. Jenna Edwards, Assistant Director, Information Services and Manuals Unit, PPQ-PEIP-IRM, APHIS, 4700 River Road, Riverdale, MD 20737-1231; (970) 305-2501; jennifer.m.edwards@usda.gov.

SUPPLEMENTARY INFORMATION:

Background

The regulations in 7 CFR part 305, “Phytosanitary Treatments,” set out phytosanitary treatment requirements for certain plants, fruits, vegetables, and other articles before they may be imported or moved interstate to prevent the spread of agricultural pests into or within the United States. In 7 CFR part 319, subpart H, §§ 319.37-1 through 319.37-23, sets out requirements for importation of live plants intended to be planted or replanted. Subpart L, §§ 319.56-1 through 319.56-12, provides requirements for importation of fruits and vegetables into the United States.

The Animal and Plant Health Inspection Service (APHIS) maintains a publicly searchable database, “Agricultural Commodity Import Requirements,” or ACIR,¹ that allows users to find import and treatment requirements for all agricultural commodities. APHIS intends ACIR eventually to be the official location for import and treatment requirements for all agricultural commodities.

¹ https://acir.aphis.usda.gov/s/.

Prior to development of the ACIR database, APHIS' Plant Protection and Quarantine (PPQ) import and treatment requirements were maintained across several manuals and the Fruits and Vegetables Import Requirements (FAVIR) database. In September 2022, FAVIR was retired and all information about specific fruit and vegetable import requirements were relocated to ACIR. PPQ import requirements for cut flowers and greenery, seeds not for planting, miscellaneous and processed products, and later in 2022, plants for planting, were also relocated from their respective manuals to ACIR. In early 2023, treatment schedules and other information from the PPQ Treatment Manual were relocated to ACIR.

Parts 305 and 319 of the current regulations contain web links to FAVIR, PPQ's Plants for Planting Manual, and the PPQ Treatment Manual. These links either redirect persons to the ACIR database or to manuals that are no longer to be updated, as the information in these sources has been moved to ACIR. In order to provide updated web links to direct readers to the ACIR database, it is necessary to amend the regulations through rulemaking.

In § 305.1, the definition of PPQ Treatment Manual contains a link that currently directs readers to the manual. We are removing that web link and replacing it with one that links directly to the treatments section within ACIR. We are also amending the definition by removing the current mailing address for requesting a hard copy of the PPQ Treatment Manual and adding an updated mailing address.² In accordance with our legal obligations, we maintain this service for persons who may not have access to the internet.

² Information Services and Manuals Unit, 4700 River Road, Riverdale, MD 20737.

We are also amending § 319.5(c) by removing “Commodity Import Analysis and Operations” from the address to which information about export commodities is to be sent. This amendment reflects an internal administrative change.

In § 319.37-2, we are revising the definition of Plants for Planting Manual by replacing the web link currently in the definition with one that links directly to the plants for planting section of the ACIR database. We are also updating the mailing address in the definition for persons requesting a hard copy of the manual.

As noted above, the import requirements for fruits and vegetables have been moved from FAVIR to ACIR. Accordingly, we are updating § 319.56-4(c)(1) by replacing the current web link with a link directly to the ACIR database.

Effective Date

This rule updates APHIS' regulations in order to ensure that references to manuals, web addresses, postal addresses, and nomenclature are accurate. Therefore, APHIS considers there to be good cause pursuant to 5 U.S.C. 553 to find that an opportunity for public comment is unnecessary and contrary to the public interest, and this rule may be made effective less than 30 days after publication in the Federal Register. Further, since this rule ensures that regulations will refer to the correct web addresses and postal addresses used by the Agency, APHIS considers the rule to relate to internal agency management within the U.S. Department of Agriculture, and it is, accordingly, exempt from the provisions of Executive Orders 12866 and 12988. Finally, this action is not a rule as defined by the Regulatory Flexibility Act (5 U.S.C. 501), and as such is exempt from the provisions of that Act.

Executive Order 12372

This program/activity is listed in the Catalog of Federal Domestic Assistance under No. 10.025 and is subject to Executive Order 12372, which requires intergovernmental consultation with State and local officials. (See 2 CFR chapter IV.)

Paperwork Reduction Act

This rule contains no reporting or recordkeeping requirements under the Paperwork Reduction Act of 1995 (44 U.S.C. 3501 et seq.).

Lists of Subjects

7 CFR Part 305

Agricultural commodities, Imports, Plant diseases and pests, Quarantine, Reporting and recordkeeping requirements, Transportation.

7 CFR Part 319

Coffee, Cotton, Fruits, Honey, Imports, Nursery stock, Plant diseases and pests, Plants, Quarantine, Reporting and recordkeeping requirements, Rice, Sugar, Vegetables.

Accordingly, we are amending 7 CFR parts 305 and 319 as follows:

PART 305—PHYTOSANITARY TREATMENTS

1. The authority citation for part 305 continues to read as follows:

Authority: 7 U.S.C. 7701-7772 and 7781-7786; 21 U.S.C. 136 and 136a; 7 CFR 2.22, 2.80, and 371.3.

2. In § 305.1, revise the definition of “PPQ Treatment Manual” to read as follows:

§ 305.1 Definitions.

* * * * *

PPQ Treatment Manual. A document that contains treatment schedules that are approved by the Administrator for use under this part. The Treatment Manual is available on the internet at https://acir.aphis.usda.gov/s/treatment-hub, or by contacting the Animal and Plant Health Inspection Service, Plant Protection and Quarantine, Information Services and Manuals Unit, 4700 River Road, Riverdale, MD 20737.

* * * * *

PART 319—FOREIGN QUARANTINE NOTICES

3. The authority citation for part 319 continues to read as follows:

Authority: 7 U.S.C. 1633, 7701-7772, and 7781-7786; 21 U.S.C. 136 and 136a; 7 CFR 2.22, 2.80, and 371.3.

§ 319.5 [Amended]

4. In § 319.5(c), remove the text “Commodity Import Analysis and Operations,”.

5. In § 319.37-2, revise the definition of “Plants for Planting Manual” to read as follows:

§ 319.37-2 Definitions.

* * * * *

Plants for Planting Manual. The document that contains restrictions on the importation of specific types of plants for planting, as provided in § 319.37-20, and other information about the importation of plants for planting as provided in this subpart. The Plants for Planting Manual is available on the internet at https://acir.aphis.usda.gov/s/plants-for-planting-hub, or by contacting the Animal and Plant Health Inspection Service, Plant Protection and Quarantine, Information Services and Manuals Unit, 4700 River Road, Riverdale, MD 20737.

* * * * *

§ 319.56-4 [Amended]

6. In § 319.56-4(c)(1), remove the web address “https://epermits.aphis.usda.gov/manual” and add the web address “https://acir.aphis.usda.gov/s/” in its place.

Done in Washington, DC, this 16th day of September 2024.
Michael Watson,
Administrator, Animal and Plant Health Inspection Service.

[FR Doc. 2024-21619 Filed 9-30-24; 8:45 am]

BILLING CODE 3410-34-P